DEPARTMENT OF THE INTERIOR

National Park Service

[NPS-WASO-NAGPRA-NPS0028204; PPWOCRADN0-PCU00RP14.R50000]

Notice of Inventory Completion: U.S. Department of the Interior, Bureau of Reclamation, Nebraska-Kansas Area Office, McCook, NE, and History Nebraska (Formerly the Nebraska State Historical Society), Lincoln, NE

AGENCY: National Park Service, Interior.

ACTION: Notice.

SUMMARY: The Nebraska-Kansas Area Office of the Bureau of Reclamation, and History Nebraska (formerly the Nebraska State Historical Society) have completed an inventory of human remains and associated funerary objects, in consultation with the appropriate Indian Tribes or Native Hawaiian organizations, and have determined that there is a cultural affiliation between the human remains and associated funerary objects and present-day Indian Tribes or Native Hawaiian organizations. Lineal descendants or representatives of any Indian Tribe or Native Hawaiian organization not identified in this notice that wish to request transfer of control of these human remains and associated funerary objects should submit a written request to History Nebraska. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to History Nebraska at the address in this notice by August 14, 2019.

ADDRESSES: Rob Bozell, History Nebraska, 5050 N 32nd Street, Lincoln, NE 68504, telephone (402) 525-1624, email rob.bozell@nebraska.gov.

SUPPLEMENTARY INFORMATION: Notice is here given in accordance with the Native American Graves Protection and Repatriation Act (NAGPRA), 25 U.S.C. 3003, of the completion of an inventory of human remains and associated funerary objects under the control of the U.S. Department of the Interior, Bureau of Reclamation, Nebraska-Kansas Area Office, McCook, NE, and in the physical custody of History Nebraska (formerly the Nebraska State Historical Society), Lincoln, NE. The human remains were removed from Dawson, Frontier, Garfield, and Hitchcock Counties, NE.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Bureau of Reclamation, Nebraska-Kansas Area Office and History Nebraska professional staff in consultation with representatives of the Arapaho Tribe of the Wind River Reservation, Wyoming; Iowa Tribe of Kansas and Nebraska; Kiowa Indian Tribe of Oklahoma; Northern Cheyenne Tribe of the Northern Cheyenne Indian Reservation, Montana; Omaha Tribe of Nebraska; Pawnee Nation of Oklahoma; Ponca Tribe of Nebraska; Santee Sioux Nation, Nebraska; Sisseton-Wahpeton Oyate of the Lake Traverse Reservation, South Dakota; and the Winnebago Tribe of Nebraska.

The Apache Tribe of Oklahoma; Assiniboine and Sioux Tribes of the Fort Peck Indian Reservation, Montana; Cheyenne and Arapaho Tribes, Oklahoma (previously listed as the Cheyenne-Arapaho Tribes of Oklahoma); Cheyenne River Sioux Tribe of the Cheyenne River Reservation, South Dakota; Comanche Nation, Oklahoma; Crow Creek Sioux Tribe of the Crow Creek Reservation, South Dakota; Crow Tribe of Montana; Delaware Nation, Oklahoma; Delaware Tribe of Indians; Iowa Tribe of Oklahoma; Kaw Nation, Oklahoma; Kickapoo Tribe of Indians of the Kickapoo Reservation in Kansas; Kickapoo Tribe of Oklahoma; Lower Brule Sioux Tribe of the Lower Brule Reservation, South Dakota; Oglala Sioux Tribe (previously listed as the Oglala Sioux Tribe of the Pine Ridge Reservation, South Dakota); Otoe-Missouria Tribe of Indians, Oklahoma; Ponca Tribe of Indians of Oklahoma; Prairie Band Potawatomi Nation (previously listed as the Prairie Band of Potawatomi Nation, Kansas); Rosebud Sioux Tribe of the Rosebud Indian Reservation, South Dakota; Sac & Fox Nation of Missouri in Kansas and Nebraska; Sac & Fox Nation, Oklahoma; Sac & Fox Tribe of the Mississippi in Iowa; Spirit Lake Tribe, North Dakota; Standing Rock Sioux Tribe of North & South Dakota; Three Affiliated Tribes of the Fort Berthold Reservation, North Dakota; Wichita and Affiliated Tribes (Wichita, Keechi, Waco & Tawakonie), Oklahoma; and the Yankton Sioux Tribe of South Dakota were invited to consult but did not participate.

Hereafter, all the Indian Tribes listed in this section are referred to as “The Consulted and Invited Tribes.”

History and Description of the Remains

In 1972, human remains representing, at minimum, one individual were removed from archeological site 25DS108 in Dawson County, NE. The human remains were excavated by the University of Nebraska, Lincoln during archeological investigations of the proposed Mid-State Irrigation Project under a contract with the National Park Service. In 2011, the human remains were discovered and removed from the 25DS108 archeological collection during a curation project conducted by History Nebraska under an agreement with the Bureau of Reclamation. The human remains represent one individual of unknown sex and age. No known individuals were identified. No associated funerary objects are present.

In 1933, human remains representing, at minimum, one individual were removed from the Mousel site 25FT5-A in Frontier County, NE. The human remains were excavated by History Nebraska during archeological investigations. The human remains represent one individual of unknown age or sex. No known individuals were identified. No associated funerary objects are present.

In 1988, human remains, representing, at minimum, one individual were removed from the Keith site 25FT18-A in Frontier County, NE. The human remains, called the Red Ochre Burial, were removed by the Bureau of Reclamation due to exposure on a receding shoreline at Medicine Creek Reservoir. The human remains represent one (probably female) child 3-7 years of age. No known individuals were identified. The 17 associated funerary objects are one lot of red ochre, one complete bead, one bead fragment, one marine shell bead, one bone awl, one modified mussel shell fragment, one lot of unmodified mussel shells, three chipped stone scrapers, one chipped stone projectile point, one lot of pottery sherds, one lot of soils, one lot of seeds, one lot of snail shells, one small chipped stone flake fragment, and one lot of chipped stone flaking debris.

In 1947, human remains representing, at minimum, one individual were removed from Feature 20 at the Keith site 25FT18-B in Frontier County, NE. The human remains were excavated by the Smithsonian Institution-River Basin Surveys during archeological investigations. In 2011, the human remains were discovered and removed from the 25FT18 archeological collection during a curation project conducted by History Nebraska under an agreement with the Bureau of Reclamation. The human remains represent one individual of unknown sex and age. No known individuals were identified. The 18 associated funerary objects are unmodified small animal bones and unmodified freshwater mussel shells.

In 1976, human remains representing, at minimum, eight individuals were removed from archeological site 25FT21 in Frontier County, NE. The human remains were exhumed by the University of Nebraska State Museum following reports of looting and exposure at the site. The human remains represent eight individuals—one subadult 2 to 4 years of age (25FT21-A); three adults of unknown age or sex (25FT21-B, 25FT21-E, 25FT21-G); one male older than 16 (25FT21-C); one subadult of unknown sex (25FT21-D); one adult of unknown sex older than 16 (25FT21-F); and one adult of unknown sex older than 24 (25FT21-H). No known individuals were identified. No associated funerary objects are present.

From 1947 to 1950, human remains representing, at minimum, one individual were removed from “Occupation Level II” at the Allen site 25FT50 in Frontier County, NE. The human remains were excavated by the University of Nebraska State Museum during archeological investigations. In 2011, the human remains were discovered and removed from the 25FT50 archeological collection during a curation project conducted by History Nebraska under an agreement with the Bureau of Reclamation. The human remains represent one individual of unknown sex and age. No known individuals were identified. No associated funerary objects are present.

In 1982, human remains representing, at minimum, one individual were removed from archeological site 25GF13 in Garfield County, NE. The human remains were excavated by the University of Nebraska, Lincoln working under a contract with the Bureau of Reclamation during construction of the Mirdan Canal project. The human remains represent one adult female of unknown age. No known individuals were identified. No associated funerary objects are present.

In 1950, human remains representing, at minimum, one individual were removed from the Carmody site 25HK7 in Hitchcock County, NE. The human remains were excavated by History Nebraska during the course of archeological investigations conducted prior to the construction of the Trenton Dam. The human remains represent one adult of unknown sex and age. No known individuals were identified. The one associated funerary object is a mussel shell.

In 1971, human remains representing, at minimum, one individual were removed from archeological site 25HK16 in Hitchcock County, NE. The human remains were discovered by a private individual eroding into the Swanson Reservoir. The human remains represent an elderly female. No known individuals were identified. No associated funerary objects are present.

The human remains listed in this notice were determined to be Native American based on archeological context, burial patterns, osteology, or associated diagnostic artifacts. Based on oral tradition and archeological evidence, the Bureau of Reclamation and History Nebraska have determined there is a relationship of shared group identity that can be reasonably traced between the human remains and associated funerary objects listed in this notice and the Native American people that are represented today by 37 Indian Tribes.

Determinations Made by the U.S. Department of the Interior, Bureau of Reclamation, Nebraska-Kansas Area Office and History Nebraska

Officials of the U.S. Department of the Interior, Bureau of Reclamation, Nebraska-Kansas Area Office and History Nebraska have determined that:

• Pursuant to 25 U.S.C. 3001(9), the human remains described in this notice represent the physical remains of 16 individuals of Native American ancestry.

• Pursuant to 25 U.S.C. 3001(3)(A), the 36 objects described in this notice that are reasonably believed to have been placed with or near individual human remains at the time of death or later as part of the death rite or ceremony.

• Pursuant to 25 U.S.C. 3001(2), there is a relationship of shared group identity that can be reasonably traced between the Native American human remains and associated funerary objects and The Consulted and Invited Tribes.

Additional Requestors and Disposition

Lineal descendants or representatives of any Indian Tribe or Native Hawaiian organization not identified in this notice that wish to request transfer of control of these human remains and associated funerary objects should submit a written request with information in support of the request to Rob Bozell, History Nebraska, 5050 N 32nd Street Lincoln, NE 68504, telephone (402) 525-1624, email rob.bozell@nebraska.gov, by August 14, 2019. After that date, if no additional requestors have come forward, transfer of control of the human remains and associated funerary objects to The Consulted and Invited Tribes may proceed.

The U.S. Department of the Interior, Bureau of Reclamation, Nebraska-Kansas Area Office is responsible for notifying The Consulted and Invited Tribes that this notice has been published.

Dated: June 13, 2019.
Melanie O'Brien,
Manager, National NAGPRA Program.

[FR Doc. 2019-14934 Filed 7-12-19; 8:45 am]

BILLING CODE 4312-52-P